DEPARTMENT OF TRANSPORTATION

Federal Highway Administration

Notice of Final Federal Agency Actions on Proposed Highway in California

AGENCY: Federal Highway Administration (FHWA), DOT.

ACTION: Notice of Limitation on Claims for Judicial Review of Actions by the California Department of Transportation (Caltrans), pursuant to 23 U.S.C. 327.

SUMMARY: The FHWA, on behalf of Caltrans, is issuing this notice to announce actions taken by Caltrans that are final. The actions relate to a proposed highway project, State Route 242/Clayton Road Ramps Project, on State Route 242, in the City of Concord, in the County of Contra Costa, State of California. Those actions grant licenses, permits, and approvals for the project.

DATES: By this notice, the FHWA, on behalf of Caltrans, is advising the public of final agency actions subject to 23 U.S.C. 139(l)(1). A claim seeking judicial review of the Federal agency actions on the highway project will be barred unless the claim is filed on or before December 18, 2017. If the Federal law that authorizes judicial review of a claim provides a time period of less than 150 days for filing such claim, then that shorter time period still applies.

FOR FURTHER INFORMATION CONTACT: California Department of Transportation, Attn: Cristin Hallissy, Environmental Branch, Chief Office of Environmental Analysis, MS-8B, 111 Grand Avenue, Oakland, CA 94612, (510) 622-8717, cristin.hallissy@dot.ca.gov, Normal Office Hours: 9-5, M-F.

SUPPLEMENTARY INFORMATION: Effective July 1, 2007, the Federal Highway Administration (FHWA) assigned, and the California Department of Transportation (Caltrans) assumed, environmental responsibilities for this project pursuant to 23 U.S.C. 327. Notice is hereby given that the Caltrans has taken final agency actions subject to 23 U.S.C. 139(l)(1) by issuing licenses, permits, and approvals for the following highway project in the State of California: State Route (SR) 242/Clayton Road Ramps Project: Caltrans proposes to modify the existing partial interchanges at SR 242 at Clayton Road and Concord Avenue, in the City of Concord. The SR 242/Clayton Road interchange would be reconfigured from a partial interchange to provide new northbound and southbound SR 242 on- and off-ramps. Proposed local roadway improvements include a combination of additional travel lanes and the extension of left-turn pockets on Willow Pass Road, Concord Avenue, Franquette Avenue, Clayton Road, Market Street, and Commerce Avenue, in the City of Concord. The project will relieve local street congestion. The actions by the Federal agencies, and the laws under which such actions were taken, are described in the Final Initial Study with Negative Declaration/Environmental Assessment with Finding of No Significant Impact (IS-ND/EA-FONSI) for the project, approved on December 27, 2016, in the Caltrans Finding of No Significant Impact (FONSI) also issued on December 27, 2016, and in other documents in the Caltrans project records. The IS-ND/EA-FONSI and other project records are available by contacting Caltrans at the addresses provided above. The Caltrans IS-ND/EA-FONSI can be viewed and downloaded from the project Web site at http://www.dot.ca.gov/dist4/envdocs.htm, or viewed at public libraries in the project area.

This notice applies to all Federal agency decisions as of the issuance date of this notice and all laws under which such actions were taken, including but not limited to:

1. General: National Environmental Policy Act (NEPA) (42 U.S.C. 4321-4351 et seq.).

2. Council on Environmental Quality Regulations.

3. Federal-Aid Highway Act of 1970, 23 U.S.C. 109.

4. Clean Air Act (42 U.S.C. 7401-7671(q)).

5. Migratory Bird Treaty Act (16 U.S.C. 703-712).

6. Historic and Cultural Resources: Section 106 of the National Historic Preservation Act of 1966, as amended, (16 U.S.C. 470(f) et seq.).

7. Clean Water Act (Section 401) (33 U.S.C. 1251-1377) of 1977 and 1987 (Federal Water Pollution Control Act of 1972).

8. Federal Endangered Species Act of 1973 (16 U.S.C. 1531-1543).

9. Noise Control Act of 1972.

10. Executive Order 12898, Federal Actions to Address Environmental Justice and Low-Income Populations.

11. Title VI of the Civil Rights Act of 1964, as amended.

12. Fair Housing Law (Title VIII of the Civil Right Act of 1968).

13. Uniform Relocation Assistance and Real Property Acquisition Policies Act of 1970.

14. Department of Transportation Act of 1966, Section 4(f) (49 U.S.C. 303).

(Catalog of Federal Domestic Assistance Program Number 20.205, Highway Planning and Construction. The regulations implementing Executive Order 12372 regarding intergovernmental consultation on Federal programs and activities apply to this program.)

Authority: 23 U.S.C. 139(l)(1).

Issued on: July 14, 2017.
Larry Vinzant,
Senior Environmental Protection Specialist, Federal Highway Administration, Sacramento, California.

[FR Doc. 2017-15221 Filed 7-19-17; 8:45 am]

BILLING CODE 4910-RY-P